DEPARTMENT OF ENERGY

Federal Energy Regulatory Commission

[Docket No. CP11-128-000]

National Fuel Gas Supply Corporation; Notice Application

Take notice that on March 7, 2011, National Fuel Gas Supply Corporation (National Fuel), filed an application in Docket No. CP11-128-000 pursuant to section 7(c) of the Natural Gas Act and Part 157 of the Commission's Regulations, for a certificate of public convenience and necessity to construct and operate its Northern Access Project. National Fuel requests authorization to: (1) Construct a new compressor station in East Aurora, Erie County, New York, (2) make piping changes at the Concord Compressor Station in Erie County, New York to permit bi-directional flow, and (3) install two additional compressor units at its existing Ellisburg Compressor Station in Potter County, Pennsylvania. National Fuel also proposes to upgrade facilities at Rose Lake near Ellisburg, to serve as a new interconnection facility with Tennessee Gas Pipeline Company (Tennessee). In a related application submitted by Tennessee in Docket No. CP11-133-000 on March 9, 2011, National Fuel and Tennessee propose to modify and upgrade certain facilities on the jointly-owned Niagara Spur Loop Line (NSLL) facilities so that the NSLL can be operated bi-directionally (Station 230C Project). Both proposals will allow for bi-directional firm transportation service of 320,000 Dekatherms per day of natural gas from the Rose Lake interconnect to the facilities of TransCanada PipeLines, Ltd. at Niagara, all as more fully set forth in the applications which are on file with the Commission and open for public inspection. The estimated total cost of the Northern Access Project and the Station 230C Project is $59,991,948.

Any questions regarding this application should be directed to Antoinetta Mucilli, Senior Attorney for National Fuel, 6363 Main Street, Williamsville, New York 14221, or call at (716) 857-7067.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: April 7, 2011.

Dated: March 17, 2011.
Kimberly D. Bose,
Secretary.

[FR Doc. 2011-7988 Filed 4-4-11; 8:45 am]

BILLING CODE 6717-01-P